DEPARTMENT OF DEFENSE

GENERAL SERVICES ADMINISTRATION

NATIONAL AERONAUTICS AND SPACE ADMINISTRATION

48 CFR Part 52

[FAC 2022-05; FAR Case 2021-008, Docket No. 2021-0008, Sequence No. 1]

RIN 9000-AO22

Federal Acquisition Regulation: Amendments to the FAR Buy American Act Requirements; Correction

AGENCY: Department of Defense (DoD), General Services Administration (GSA), and National Aeronautics and Space Administration (NASA).

ACTION: Final rule; correction.

SUMMARY: DoD, GSA, and NASA are issuing a correction to FAC 2022-05; FAR Case 2021-008; Amendments to the FAR Buy American Act Requirements; which published in the Federal Register at 87 FR 12780, on March 7, 2022. This correction makes an editorial change to correct amendatory instruction 21.b. to section 52.212-3.

DATES: Effective: October 25, 2022.

FOR FURTHER INFORMATION CONTACT: Ms. Mahruba Uddowla, Procurement Analyst, at 703-605-2868 or by email at mahruba.uddowla@gsa.gov, for clarification of content. For information pertaining to status or publication schedules, contact the Regulatory Secretariat Division at 202-501-4755 or GSARegSec@gsa.gov. Please cite FAC 2022-05, FAR Case 2021-008; Correction.

SUPPLEMENTARY INFORMATION:

Correction

In rule FR Doc. 2022-04173, published in the Federal Register at 87 FR 12780, on March 7, 2022, make the following correction:

52.212-3 [Corrected]

1. On page 12795, in the first column, correct amendatory instruction number 21.b., to read as follows:

b. In paragraph (f)(1)(i) removing the word “product” from the end of the sentence, and adding the phrase “product and that each domestic end product listed in paragraph (f)(3) of this provision contains a critical component” in its place;

William F. Clark,
Director, Office of Government-wide Acquisition Policy, Office of Acquisition Policy, Office of Government-wide Policy.

[FR Doc. 2022-22564 Filed 10-17-22; 8:45 am]

BILLING CODE 6820-EP-P